DEPARTMENT OF TRANSPORTATION

Pipeline and Hazardous Materials Safety Administration

49 CFR Part 192

[Docket ID PHMSA-RSPA-2004-19854]

RIN 2137-AE15

Pipeline Safety: Integrity Management Program for Gas Distribution Pipelines

AGENCY: Pipeline and Hazardous Materials Safety Administration (PHMSA), Department of Transportation.

ACTION: Proposed rule; extension of comment period.

SUMMARY: PHMSA is extending the period for public comment to give interested persons an additional 30 days to comment on a proposed rule to amend the Federal Pipeline Safety Regulations to require operators of gas distribution pipelines to develop and implement integrity management (IM) programs.

DATES: Anyone interested in filing written comments on the rule proposed in this document must do so by October 23, 2008. PHMSA will consider late filed comments so far as practicable.

ADDRESSES: Comments should reference Docket No. PHMSA-RSPA-2004-19854 and may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: In the E-Gov Web site: http://www.regulations.gov, access the Notice of Proposed Rulemaking by typing “PHMSA-RSPA-2004-19854-0079” under “Search Documents” and clicking “Go.” Submit your comment by clicking the yellow bubble or “Send a Comment or Submission” then following the instructions.

Identify docket number PHMSA-RSPA-2004-19854 at the beginning of your comments. For comments by mail, please provide two copies. To receive PHMSA's confirmation receipt, include a self-addressed stamped postcard. Internet users may access all comments at http://www.regulations.gov, by searching for the docket number.

Note: PHMSA will post all comments without changes or edits to http://www.regulations.gov including any personal information provided.

FOR FURTHER INFORMATION CONTACT: Mike Israni at (202) 366-4571 or by e-mail at mike.israni@dot.gov.

SUPPLEMENTARY INFORMATION: PHMSA is extending, by 30 days, the comment period on the proposed rulemaking published on June 25, 2008 (73 FR 36015) in response to a petition from American Gas Association (AGA) and an informal request from National Association of Pipeline Safety Representatives (NAPSR). AGA requested this extension in order to allow for more time for interested persons to evaluate the proposed rulemaking and submit comments. AGA views the proposed rule as the most extensive rulemaking for gas utilities since the code was codified in the 1970s. AGA notes that there are more than 1,200 natural gas utilities—providing service to more than 70 million Americans—that will be affected by the proposed rulemaking. AGA further notes critical issues that need to be addressed that were not discussed in the Distribution Integrity Management Phase 1 Report which was used to develop the proposed rule. In addition, AGA estimates that the proposed rule's establishment of a plastic pipe database could result in the elimination of the Plastic Pipe Database Committee (PPDC) and the 16,000 data points that have been established over the last eight years. AGA notes that PPDC's scheduled semi-annual meeting on August 26-27, 2008, does not afford PPDC the proper time for their members to discuss the potential impact on their organization, review with their constituents, and submit relevant comments to the docket prior to the September 23, 2008 comment deadline. PHMSA is granting a 30-day comment period extension in an effort to allow for the potentially impacted entities to submit comments and ensure that AGA's concerns are addressed.

Background information on the proposed rule may be found on-line at the following URLs: http://www.phmsa.dot.gov/pipeline/imp and http://primis.phmsa.dot.gov/dimp/.

Issued in Washington, DC, on September 8, 2008.
Jeffrey D. Wiese,
Associate Administrator for Pipeline Safety.

[FR Doc. E8-21283 Filed 9-11-08; 8:45 am]

BILLING CODE 4910-60-P